ENVIRONMENTAL PROTECTION AGENCY

[FRL-9926-37-OEI; EPA-HQ-OEI-2014-0758]

Establishment of a New System of Records Notice for the Emergency Management Portal—Field Readiness Application (EMP-FR)

AGENCY: Environmental Protection Agency (EPA).

ACTION: Notice.

SUMMARY: The U.S. Environmental Protection Agency's (EPA) Office of Solid Waste and Emergency Response (OSWER), Office of Emergency Management (OEM) is giving notice that it proposes to create a new system of records pursuant to the provisions of the Privacy Act of 1974 (5 U.S.C. 552a). The EPA is implementing the Emergency Management Portal—Field Readiness Application (EMP-FR) which will contain information used by the Agency to (1) track and manage training and certifications for Agency emergency management and response personnel and those subject to Agency safety, health, and environmental management training and medical monitoring requirements; (2) contact EPA staff who are members of the Response Support Corps (RSC) in off-hours when they are needed to be sent to an emergency response incident or to contact an emergency point of contact in case of injury to the RSC member while working at an incident; and (3) respond to requests for statistical compilations of such information made by the Office of Management and Budget, the Department of Labor and the Department of Homeland Security.

DATES: Persons wishing to comment on this system of records notice must do so by May 26, 2015.

ADDRESSES: Submit your comments, identified by Docket ID No. EPA-HQ-OEI-2014-0758, by one of the following methods:

• www.regulations.gov: Follow the online instructions for submitting comments.

• Email: oei.docket@epa.gov.

• Fax: 202-566-1752.

• Mail: OEI Docket, Environmental Protection Agency, Mailcode: 2822T, 1200 Pennsylvania Ave. NW., Washington, DC 20460.

• Hand Delivery: OEI Docket, EPA/DC, WJC West Building, Room 3334, 1301 Constitution Ave. NW., Washington, DC 20460. Such deliveries are only accepted during the Docket's normal hours of operation, and special arrangements should be made for deliveries of boxed information.

Instructions: Direct your comments to Docket ID No. EPA-HQ-OEI-2014-0758. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically at www.regulations.gov or in hard copy at the OEI Docket, EPA/DC, WJC West Building, Room 3334, 1301 Constitution Ave. NW., Washington, DC 20460. The Public Reading Room is open from 8:30 a.m. to 4:30 p.m., Monday through Friday excluding legal holidays. The telephone number for the Public Reading Room is (202) 566-1744, and the telephone number for the OEI Docket is (202) 566-1752.

FOR FURTHER INFORMATION CONTACT: Joan Karrie, Office of Solid Waste, Office of Emergency Management, Resource Management Division, USEPA Headquarters, MC 5104A, WJC North Building, 1200 Pennsylvania Ave. NW., Washington, DC 20460, telephone number (202) 564-9469.

SUPPLEMENTARY INFORMATION:

General Information

EPA plans to create a Privacy Act system of records for the Emergency Management Portal—Field Readiness Application (EMP-FR). EMP-FR will be used to track various items of concern to OEM, the Agency's Emergency Management and Response community; and the Agency's Safety, Health and Environmental Management community.

EMP-FR contains training and certification records for EPA employees (training taken, training required, certifications received and certifications required.) Additional fields for Response Support Corps (RSC) members include emergency response experience and workgroup membership. RSC members may also have entered personal and emergency contact name and address information (home address; personal email; home and cell phone numbers; emergency contact name, relationship and phone numbers). As this information is retrievable using search criteria that identifies an individual, including the person's name, email address and EPA LAN user ID, it is considered non-sensitive personally identifiable information (PII).

As specified by law and an EPA Order, the Agency's Occupational Medical Surveillance Program (OMSP) provides for baseline, exit and periodic health evaluations to ensure, to the extent feasible, that EPA employees subject to extraordinary physical demands or hazardous exposures have not suffered adverse health effects. The employee data about this program that are managed in EMP-FR include only the date that an occupational medical review was conducted and the date by which the next review is required. No specifics of employee health, exposures, or other medical confidential information are included in EMP-FR.

The EMP-FR application is owned and managed by the EPA's Office of Solid Waste and Emergency Response (OSWER), Office of Emergency Management (OEM). It is hosted by the Office of Environmental Information (OEI), Office of Technology Operations and Planning (OTOP), National Computer Center (NCC) located at Research Triangle Park, NC. EMP-FR is accessible through the Internet, with identity and access management handled by OEI's Web Application Management software.

EMP-FR is available to all EPA employees by default, although targeted to the Emergency Management and Health and Safety personnel in particular. Internal and external trusted partners can be given access with the consent of an EPA point of contact. Each employee can see and edit his/her own record. Supervisors can view records of their employees. Emergency Management and Safety and Health program managers and, according to stated protocols, other EPA employees and their delegates may be given rights to manage/edit other employee records as required. Access to the parallel reporting software, the Emergency Management Business Intelligence (EMBI)—FR tool, is managed separately but with similar protocols.

Dated: April 8, 2015.
Ann Dunkin,
Chief Information Officer.

EPA-70

System Name:

Emergency Management Portal—Field Readiness Application (EMP—FR)

System Location:

The system is located at the EPA's Office of Environmental Information, Office of Technology Operations and Planning, National Computing Center, Research Triangle Park, NC 27711.

Categories of Individuals Covered by the System:

This system covers current and former EPA employees, grantees, interns and staff of other federal agencies posted at the EPA who are members of the emergency management and response community and/or who are subject to the EPA's health and safety training requirements. The emergency management and response community includes on scene coordinators, removal managers, RSC members and coordinators and other field personnel. Other EPA employees that are subject to health and safety training requirements include inspectors, special agents and enforcement officers.

Categories of Records Covered by the System:

• Personal and emergency contact information for the EPA RSC volunteers:

○ Home address, personal email, home and cell phone numbers as well as emergency contact name, relationship and phone numbers.

• Certification and training information for emergency response personnel and members of the EPA's health and safety community; Incident Command System training and certifications for the response personnel; health and safety training and certifications required for other EPA personnel:

○ Training taken, training required, certifications received and certifications required.

○ For RSC members, additional fields include emergency response experience and workgroup membership.

• As specified by law and EPA Order, the Agency's Occupational Medical Surveillance Program (OMSP) provides for baseline, exit and periodic health evaluations to ensure, to the extent feasible, that EPA employees subject to extraordinary physical demands or hazardous exposures have not suffered adverse health effects. The employee data about this program that are managed in EMP-FR include only the date that an occupational medical review was conducted and the date by which the next review is required. No specifics of employee health, exposures, or other medical confidential information are included in EMP-FR.

Authority for Maintenance of the System:

CERCLA section 105 (National contingency plan; preparation, contents, etc.); EPCRA section 305 (Emergency training and review of emergency systems); EPA Order 1440.2 (partial list: Occupational Safety and Health Act of 1970 and E.O. 12196, Occupational Health and Safety Programs for Federal Employees); EPA Order 1460.1 (partial list: 29 U.S.C. 655, section 6, and 29 U.S.C. 668, section 19, Occupational Safety and Health Act of 1970 and section 501 of the Rehabilitation Act of 1973, as amended). Purposes(s): Personal and Emergency Contact Information is used by line supervisors and managers of the RSC Program (1) to contact the RSC member in off-hours when he/she is needed to deploy to an incident and (2) in case of injury to the RSC member while deployed at an incident. Emergency planning, management and response-related training and certification information is used by individuals and managers of the various emergency management and response programs across the Agency to track required emergency response training.

Safety and health-related training and certification information is used by individuals and managers of the safety, health and environmental management program across the Agency to track required safety, health and environmental management training and medical monitoring data.

Routine Uses of Records Maintained in the System, Including Categories of Users, and Purposes of Such Uses:

General routine uses A, D, E, F, G, H, K and L apply to this system. Records may also be disclosed to home-agency supervisors of non-EPA federal employees.

Policies and Practices for Storing, Retrieving, Accessing, Retaining, and Disposing of Records in the System:

• Storage: Data are stored on in a computer database on a database server.

• Retrievability: Personally identifiable information (PII) can be retrieved by name and EPA personnel identification number. Searches by training or certification name can also be used to access user records.

• Safeguards: Access to EMP by external trusted partners, such as state employees, other federal employees and contractors as well as internal contractors, grantees, interns and non-EPA federal employees must be requested through OEI's Web Access Management process and must be approved by the requestor's EPA point of contact. In addition, requestor's EPA point of contact must explain and approve all read/edit access to the EMP-FR application. Access is then granted via the EMP Help Desk data managers. Those with edit rights to profiles other than their own, have rights granted individually through the EMP Help Desk in accordance with procedures determined by the various field readiness user community program managers such as the RSC project manager; the National Incident Management System project manager and the Safety, Health and Environmental Management Division of the Office of Administration and Resources Management. Access to the personal and emergency contact information is limited to the person himself/herself; the person's supervisor, as listed in EMP-FR; and the person's organizational RSC Coordinators and their specific designees. This access is managed through the standard EMP database security and policies.

• Retention and Disposal: An EMP-FR records schedule is currently under development.

System Manager(s) and Address: Christopher Burgess, Office of Solid Waste and Emergency Response, Office of Emergency Management, Resource Management Division, USEPA, MC 5104A, WJC North, 1200 Pennsylvania Avenue NW., Washington, DC 20460.

Notification Procedure: Any individual who wants to know whether this system of records contains a record about him or her, who wants access to his or her record, or who wants to contest the contents of a record, should make a written request to the EPA Freedom of Information Act Office, Attn: Privacy Act Officer, MC 2822T, 1200 Pennsylvania Avenue NW., Washington, DC 20460.

Record Access Procedure: Individuals seeking access to information in this system of records about themselves are required to provide adequate identification (e.g. driver's license, military identification card, employee badge or identification card and, if necessary, proof of authority). Additional identity verification procedures may be required, as warranted. Requests must meet the requirements of EPA regulations that implement the Privacy Act of 1974, at 40 CFR part 16.

Contesting Record Procedure: Requests for correction or amendment must identify the record to be changed and the corrective action sought. Complete EPA Privacy Act procedures are described in EPA's Privacy Act regulations at 40 CFR part 16.

Record Source Categories: Information will come from the individual, from program managers such as OARM/SHEMD and OSWER/OEM/PROD, and from training rosters.

System Exempted from Certain Provisions of the Act: None.

[FR Doc. 2015-08804 Filed 4-15-15; 8:45 am]

BILLING CODE 6560-50-P